DEPARTMENT OF ENERGY

Federal Energy Regulatory Commission

[Docket No. AD12-12-000]

Coordination Between Natural Gas and Electricity Markets; Supplemental Notice of Technical Conference

As announced in the Notice issued on March 5, 2013,¹ the Federal Energy Regulatory Commission (Commission) staff will hold a technical conference on Thursday, April 25, 2013 from 9:00 a.m. to approximately 5:00 p.m. to discuss natural gas and electric scheduling, and issues related to whether and how natural gas and electric industry schedules and practices could be harmonized in order to achieve the most efficient scheduling systems for both industries. The conference will be held at the Federal Energy Regulatory Commission, 888 First Street NE., Washington, DC 20426. The agenda and list of roundtable participants for this conference are attached. This conference is free of charge and open to the public. Commission members may participate in the conference.

¹ Coordination between Natural Gas and Electricity Markets, Docket No. AD12-12-000 (Mar. 5, 2013) (Notice of Technical Conference) (http://elibrary.ferc.gov/idmws/File_list.asp?document_id=14095482).

If you have not already done so, those who plan to attend the technical conference are strongly encouraged to complete the registration form located at: https://www.ferc.gov/whats-new/registration/nat-gas-elec-mkts-form-04-25-13.asp. There is no deadline to register to attend the conference.

The technical conference will not be transcribed. However, there will be a free webcast of the conference. The webcast will allow persons to listen to the technical conference, but not participate. Anyone with Internet access who wants to listen to the conference can do so by navigating to the Calendar of Events at www.ferc.gov and locating the technical conference in the Calendar. The technical conference will contain a link to its webcast. The Capitol Connection provides technical support for the webcast and offers the option of listening to the meeting via phone-bridge for a fee. If you have any questions, visit www.CapitolConnection.org or call 703-993-3100.²

² The webcast will continue to be available on the Calendar of Events on the Commission's Web site www.ferc.gov for three months after the conference.

Notice is also hereby given that the discussions at the conference may address matters at issue in the following Commission proceeding(s) that are either pending or within their rehearing period: East Tennessee Natural Gas, L.L.C., Docket No. RP13-676-000; Gulf South Pipeline Company, LP, Docket No. RP13-294-001; ISO New England Inc. and New England Power Pool, Docket No. ER13-895-000, -001; Saltville Gas Storage Company L.L.C., Docket No. RP13-677-000; Tennessee Gas Pipeline Company, L.L.C., Docket No. RP12-514-000; Trailblazer Pipeline Company LLC, RP13-240-000; and Transwestern Pipeline Company, LLC, Docket No. RP13-404-001.

Information on the technical conference will be posted on the Web site http://www.ferc.gov/industries/electric/indus-act/electric-coord.asp, as well as the Calendar of Events on the Commission's Web site, http://www.ferc.gov, prior to the conference.

Commission conferences are accessible under section 508 of the Rehabilitation Act of 1973. For accessibility accommodations, please send an email to accessibility@ferc.gov or call toll free 1-866-208-3372 (voice) or 202-502-8659 (TTY), or send a FAX to 202-208-2106 with the required accommodations.

For more information about the technical conference, please contact:

Elizabeth Topping (Technical Information), Office of Energy Policy and Innovation, Federal Energy Regulatory Commission, 888 First Street NE., Washington, DC 20426, (202) 502-6731, Elizabeth.Topping@ferc.gov.

Anna Fernandez (Legal Information), Office of General Counsel, Federal Energy Regulatory Commission, 888 First Street NE., Washington, DC 20426, (202) 502-6682, Anna.Fernandez@ferc.gov.

Sarah McKinley (Logistical Information), Office of External Affairs, Federal Energy Regulatory Commission, 888 First Street NE., Washington, DC 20426, (202) 502-8004, Sarah.McKinley@ferc.gov.

Dated: April 3, 2013.
Kimberly D. Bose,
Secretary.

Coordination between Natural Gas and Electricity Markets

Docket No. AD12-12-000

April 25, 2013

Agenda

9:00-9:20 a.m. Welcome and Opening Remarks

The purpose of this technical conference is to further explore concerns regarding gas-electric scheduling conflicts, consider whether adjustments to scheduling or capacity release rules or practices are needed, and identify specific areas in which additional guidance or regulatory changes could be considered. The conference will explore whether potential modifications in these areas would facilitate more efficient use of existing electric or natural gas infrastructure.

9:20-9:35 a.m. Opening Staff Presentation

Staff will make a presentation on the gas and electric days, the gas scheduling timeline and electric scheduling timelines.

9:35-12:30 p.m. Coordination of Gas and Electric Schedules

The morning roundtable will address how to best align the gas and electric schedules, including whether and on what geographic footprint an “energy day” ³ and the scheduling for that day should be pursued, and whether there is a need for interregional or regional gas or electric scheduling modifications. This roundtable session will address whether and to what extent the electric and natural gas scheduling practices need to be aligned, what scheduling practices need to be revised (gas, electric or both), and whether alignment should be national, regional, or interconnection-wide. Recognizing that the electric markets vary by region, this roundtable session will also explore how electric markets are responding to the needs of gas-fired generators.

³ The term “energy day” in this context refers to a simultaneous 24-hour time period when gas flow and electric generator commitments are effective. Currently, the “day” for purposes of measuring natural gas flows begins at 9:00 a.m. Central time; however, the “day” for purposes of measuring electricity flows begins at midnight local time.

Roundtable panelists should be prepared to discuss the following:

• What would be the consequences of implementing a single “energy day” that combines the gas and electric days and the scheduling for that day?

• If an interregional or regional approach to harmonizing gas or electric scheduling would improve efficient use of existing infrastructure, how could the different gas and electric geographic footprints be reconciled? How would this work for organized and bilateral electric markets?

• Some have proposed to integrate gas and electric scheduling on an interregional basis through a coordinated Eastern Interconnection gas and electric schedule and a coordinated Western Interconnection gas and electric schedule. What are the consequences of such a proposal?

• How could such interregional electric schedules be harmonized with the natural gas schedule?

• Would coordination of the gas nomination and electric bidding and commitment schedules on an interregional basis result in more efficient use of existing infrastructure?

• If gas or electric schedules were adjusted on a regional basis, should the adjustments be limited to day-ahead schedules, or also include changes to intraday (gas) and real-time (electric) schedules? What are the benefits and costs to each approach?

• Given technological advances, are there opportunities to reduce the time between electric offers and resource commitment? What would the benefits and costs be to implementing such a change?

• Given the increasing reliance on gas-fired generation, are there changes required to the current schedules used in wholesale electric markets to commit gas-fired generation in the Day-Ahead market?

• Is there a need to sequence the timing of electric market clearing across adjacent wholesale electric markets? If so, how can the market clearing in adjacent regions be sequenced to promote efficient use of infrastructure? What are the costs and benefits of adjusting the electric market scheduling timeline across adjacent wholesale markets?

• Could electric scheduling modifications allow gas-fired generators to make or adjust gas commitments to avoid periods of gas illiquidity?

• Should electric system operators provide an opportunity for generators to adjust their offers after commitments have been posted or during the operating day to account for changes in gas or transportation costs?

12:30-1:30 p.m. Lunch

1:30-4:30 p.m. Natural Gas Pipeline Flexibility and Potential Scheduling Adjustments

The afternoon roundtable will address suggestions regarding incremental changes to gas scheduling and explore the services already provided by pipelines, marketers and capacity release markets and whether these services could be expanded to provide additional use of existing infrastructure.

Roundtable panelists should be prepared to discuss questions including:

• As some parties have suggested, should additional natural gas nomination opportunities be provided within the scheduling timeline? For example, would an additional nomination period during the night or early morning provide flexibility that would be used by shippers? What are the costs and benefits of doing so?

• Is it sufficient to permit enhanced pipeline nomination opportunities by individual pipelines given the need to coordinate such nominations with upstream and downstream parties?

• Given technological advances, are there opportunities to reduce the time between gas nominations and confirmations for intraday nominations? What would be the benefits and costs of implementing such a change?

• The current business practice standards (NAESB Standard 1.3.80) permit shippers with scheduled gas past the point of a constraint to sell or transfer that gas supply to others without the need to reschedule. How do pipelines implement this requirement? What revisions, if any, are needed to provide more flexibility? How can marketers use this standard to help transfer gas?

• Should the no-bump rule be eliminated or the timing adjusted if additional nomination period(s) are added?

• Do changes need to be made to Commission policies to permit third parties to offer virtual storage or other balancing services? What are the advantages or disadvantages of such a change?

• What tools and services do generators use to manage procuring gas and transportation outside the common trading periods and over weekends? Could existing tools be expanded? Are any additional tools needed to manage difficulties with fuel supply arrangements outside standard trading periods?

• Pre-arranged capacity release transactions can be scheduled at every nomination opportunity on a pipeline. Are there any changes to the capacity release program that would make capacity release more efficient?

• To what extent and how do shippers use redirect options and flexible delivery point nominations? How might this be improved?

4:30-5:00 p.m. Closing

• Recap of what staff heard throughout the day

• Participant feedback

• Areas for further consideration, including issues outside of scheduling

Roundtable Participants

Morning Session

Robert Hayes, Vice President, Physical Trading and Operation, Calpine Corporation

Georgia Carter, Senior Vice President, Rates & Regulatory Affairs, Columbia Pipeline Group

Jim Ginnetti, Senior Vice President, EquiPower Resources Corp.

Lin Franks, Senior Strategist, RTO, FERC & Compliance Initiatives, Indianapolis Power & Light Company

Scott Rupff, Vice President, Marketing, Development & Commercial Operations, Iroquois Pipeline Operating Company

Peter Brandien, Vice President of System Operations, ISO-NE

Ray Miller, Vice President, Pipeline Management, Kinder Morgan

Wes Yeomans, Vice President, Operations/Kelli Joseph, Gas & Electric Analyst, NYISO

Joe Gardner, Vice President, Forward Markets & Operations Services Midwest ISO

Michael Frey, Vice President, Gas Supply & Operations, Municipal Gas Authority of Georgia

James Stanzione, Director of Federal Regulatory National Grid Policy

Donald Sipe, Attorney (On behalf of American Forest & Paper Association), PretiFlaherty

Todd Snitchler, Chairman, Public Utilities Commission of Ohio

Doug Rephlo, Senior Wholesale Originator, Shell Energy North America (U.S.), L.P.

Greg Lander, President, Skipping Stone

Carl Haga, Gas Services Director, Southern Company

Bruce Rew, Vice President, Operations, Southwest Power Pool

Richard Kruse, Vice President, Regulatory, Spectra Energy

Afternoon Session

Daniel Buckner, Director of Fuels Origination and Strategic Development, ACES

John Fortman, Director, Commercial Services, AGL Resources

Patrick Dinkel, Vice President, Resource Management, Arizona Public Service Company

Mark Evans, Vice President, North America Gas and Power Market, BG Energy Merchants, LLC

Kathy Kirk, Senior VP, Marketing & Origination/Adina Owen, Corporate Counsel, Boardwalk Pipeline Partners, LP

Tina Burnett, Senior Energy Analyst (On behalf of Process Gas Consumers Group), The Boeing Corporation

Kevin Holder, Senior Vice President and Chief Commercial Officer, Cardinal Gas Storage Partners

Chris Ditzel, Division Vice President, Commercial Operations, CenterPoint Energy

John Rudiak, Senior Director, Energy Supply, CT Natural Gas & So. CT Gas

Mary Nelson, Devon Energy Corporation

Brad Holmes, Vice President, Market Services, Energy Transfer

Michelle Thiry, Director Energy Management Organization, Entergy

Jim Ginnetti, Senior Vice President, EquiPower Resources Corp.

Gene Nowak, Vice President, Transportation & Storage Services, Kinder Morgan

Rick Smead, Director (On behalf of America's Natural Gas Alliance), Navigant Consulting

Jim Dauer, Director, Natural Gas Trading, NRG Energy, Inc.

Doug Rephlo, Senior Wholesale Originator, Shell Energy North America (U.S.), L.P.

Richard Kruse, Vice President, Regulatory, Spectra Energy

Valerie Crockett, Senior Program Manager Regulatory Policy, TVA

Curt Dallinger, Director Gas Resource Planning, Xcel Energy

[FR Doc. 2013-08597 Filed 4-11-13; 8:45 am]

BILLING CODE 6717-01-P